ENVIRONMENTAL PROTECTION AGENCY

[FRL-8977-1]

New York State Prohibition of Marine Discharges of Vessel Sewage; Receipt of Petition and Final Affirmative Determination

AGENCY: Environmental Protection Agency (EPA).

SUMMARY: Notice is hereby given that a petition has been received from the State of New York requesting a determination by the Regional Administrator, U.S. Environmental Protection Agency—Region 2, that adequate facilities for the safe and sanitary removal and treatment of sewage from all vessels are reasonably available for the South Shore Estuary Reserve (SSER), New York. The waters of the proposed No Discharge Zone (NDZ) fall within the jurisdictions of the Town of Southampton, the Town of Brookhaven, the Town of Islip, the Town of Babylon, the Town of Oyster Bay and the Town of Hempstead. The entities submitted an application prepared by the Peconic Baykeeper for the designation of a Vessel Waste No Discharge Zone. New York State Department of Environmental Conservation certified the need for greater protection of the water quality.

EPA published a tentative affirmative determination on July 6, 2009 in the Federal Register. Public comments were solicited for 30 days and the comment period ended on August 5, 2009. EPA Region 2 received a total of twenty five (26) comments via letter (14) and e-mail (12). The comment tally was twenty three (23) in favor and three (3) are questioning or opposing the NDZ designation. This Federal Register document will address all comments submitted in response to the July 6, 2009 (Volume 74 Number 127), Federal Register document.

EPA received letters from the following individuals:

1. Douglas R. Lemaitre, 4207 Oak Beach, Oak Beach, NY 11702

2. Ann Cestare, 77 Bayview Ave. West Lindenhurst, NY 11757

3. Charles K McDermott, 3740 Somerset Dr. Seaford, NY 11783

4. Stephen D. Walsh, 47 Eatondale Avenue, Blue Point, NY 11715

5. Virginia Matney, 112 Eldorado St. Atlantic Beach, NY 11509

6. Diana C. Teta, PhD 771 S. Country Road, E Patchogue, NY 11772

7. Mara Dias, Water Quality Coordinator, Surfrider Foundation, P.O. Box 6010, San Clemente, CA 92674

8. Adrienne Esposito, Citizens Campaign, 225A Main St. Farmingdale, NY 11735

9. Maureen Dolan Murphy, South Shore Reserve Council, 300 Woodcleft Avenue, Freeport, New York, NY 11520

10. Lawrence A. Merryman, Great South Bay Audubon Society, P.O. Box 267 Sayville, NY 11782

11. Jennifer Skilbred, Environmental Advocate, Group for the East End, P.O. Box 1792, Southold, NY 11971

12. Kenneth Blum, Meridian Shipping Co., In. 147-20 181 St. Jamaica, NY 11413

13. Jean Weltner, 629 Miller Ave. Freeport, NY 11520-6312

14. Joe Zysman, Fire Island Wildeness Committee, 325 Beaverdam Road, Brookhaven, NY 11719

EPA received e-mails from the following individuals:

1. Flori Grottoli 2. Frank Marinaccio 3. Frank Peter 4. Arthur H. Kopelman, PhD Coastal Research and Education Society of Long Island 5. Marty O'Connell, South Bay Cruising Club/Babylon Yacht Club 6. Mike Burns, www.ECwindfest.com 7. Theodore Drossos, 47 Division Avenue, East Islip, NY 11730 8. William Hasback, Acting Shellfisheries Head, NYSDEC—Bureau of Marine Resources, 205 N. Belle Mead Road, East Setauket, NY 11733 9. Della Bucher, Harborfields P.L. 10. Kevin McAllister, Peconic Baykeeper, Inc. 10 Old Country Road, P.O. Box 893, Quogue, NY 11959. 11. Sue Montana, 34 River Road, Sayville, NY 11782 12. Bryan McLoughlin

Three (3) commenters are questioning or opposing the NDZ designation.

1. Comment: One commenter stated that the pollution near the shore comes from leaching septic tanks, fertilizer, and road runoff. The boater uses his boat for a limited time during the season and stated that what is needed is another sewer district.

EPA Response: This comment is beyond the scope of this action in which EPA finds adequate facilities for the safe and sanitary removal and treatment of sewage from all vessels are reasonably available for the South Shore Estuary Reserve (SSER), New York. EPA has point and nonpoint source control programs that address pollution from leaching septic tanks, fertilizer, and road runoff.

2. Comment: The commenter asked why EPA was picking on boaters when many beaches are closed due to storm water runoff and not from overboard discharge.

EPA's Response: Regarding the comment of “pick on the boaters” Section 312(f)(3) of the Clean Water Act allows States to prohibit the discharge of sewage, whether treated or untreated, from vessels for the greater protection and enhancement of water quality. New York State has exercised its option to support the petition put forth by the Peconic Baykeeper. EPA's role is to determine whether adequate facilities, for the safe and sanitary removal and treatment of the sewage, are reasonably available. We have found the facilities in the proposed areas are reasonably available and recommend finalizing our determination. Sometimes beaches are closed due to high bacterial counts from storm water or other sources. However, it should be noted the intent of NDZ designation for the SSER is to protect the whole SSER ecosystem not just beaches.

3. Comment: One commenter stated that his vessel is equipped with a Lectrasan Marine Sewage Treatment System and produces cleaner treated effluent than the publicly owned treatment works (POTWs). The commenter asked whether it would be acceptable for the boat to discharge overboard in the NDZ.

Response: EPA has classified the Lectra/San unit as a Type I MSD. For Type I MSDs the effluent produced must not have a fecal bacterial count greater than 1,000 per 100 milliliters and have no visible floating solids. Due to the deficiencies in treatment (not 100% free of pathogens), vessels using Lectra/San units are not permitted to discharge in No-Discharge Zones. Once a NDZ is established, vessels cannot discharge treated or untreated sewage into the waterbody (40 CFR 140.4).

Twenty three (23) commenters expressed strong support for the establishment of a NDZ for SSER and commented that this Final Determination was an important step in protecting the water quality of the SSER and its marine resources. These commenters raised questions and concerns regarding outreach, education, enforcement, pump out facilities, water quality improvements, and legislative issues. These comments are addressed below in general subject categories.

Adequate Pumpout Facilities

4. Comment: Many commenters expressed concerns about the adequacy of existing pumpout facilities in the Great South Bay, including the total number of facilities and the conditions and availability of the pumpouts. In addition, a few commenters stated that there should be more operable pump out facilities (Town of Babylon especially). One commenter expressed the funding concern for increased numbers of pump out facilities if needed.

EPA Response: The criterion established by the Clean Vessel Act regarding the adequate number of pumpouts per vessel population is one pumpout per 300 to 600 vessels. All areas of the SSER meet or exceed this criterion, therefore, EPA has determined that there is an adequate number of pumpouts. A number of pumpout boats operate in the SSER area and are available for boaters' convenience. EPA recognizes the importance of adequate pumpouts to service the boating activity within a given waterbody. There are a sufficient number of pumpouts to service the Great South Bay. The Towns of Brookhaven and Islip provide mobile pumpout boats that operate in the Great South Bay (four boats total) and can be hailed on channel 73. Environmental/stakeholder organizations such as Peconic Baykeeper and the South Bay Cruising Club have been encouraging the Town of Babylon to bring a pumpout boat on-line. State agencies are contacted regarding inoperable or inaccessible pumpouts for their assistance in expeditious resolution of the matter. EPA will continue to refer complaints about non-operational pumpouts to the appropriate State and local authorities if such complaints are received.

5. Comment: One commenter stated that the depth of the waters adjacent to the pump-out facilities are not deep enough to allow sailboats with a draft over four feet to access them.

EPA Response: There are boats that may require greater depth for pumpout. They have the option to use any of the four pumpout boats in Islip and Brookhaven. Boaters can also anchor off in the area and call out for service.

6. Comment: One commenter suggested that boaters need to see more convenient and reasonable priced pumpout stations.

Response: As stated in the Response to Comment 4, EPA has determined that there is an adequate number of pumpouts. Among all the available pumpout stations the service charge varies mostly from free of charge to $5 per service. EPA believes this is more than reasonable.

7. Comment: One commenter expressed concerns regarding where the pumpout waste goes and the capacity of these facilities.

EPA Response: Sanitary waste water removed from pump out is generally transported to municipal wastewater treatment plants. In a few instances, the waste pumped out from vessels is pumped directly into onsite septic systems.

Other Sources of Pollution in the (Great South Bay) GSB Area

8. Comment: One commenter stated that the water quality has degraded year by year, that the Babylon Sewage treatment plant does not remove the nitrogen, and not only has the water turned brown but it smells bad. There is an uncertified shellfish area near the Fire Island Inlet which has been closed by NYSDEC apparently due to impairment related sewage discharge and the commenter asked how EPA plans to correct this condition.

EPA Response: This comment is beyond the scope of this action. However, EPA agrees that uncertified shellfish designation is potentially due to stormwater and other nonpoint sources including vessel waste. The Babylon facility whose treatment train does not include nitrogen removal is an ocean discharge and should not affect SSER water quality. Questions related to the shellfish designations in the Great South Shore Reserve should be directed to the NYSDEC.

9. Comment: One commenter asked how the Babylon Sewage Treatment Plant neutralizes the waste water before it is discharged in the water.

EPA Response: The Babylon (Bergen Point) facility is a secondary wastewater treatment plant. Secondary treatment standards are established by EPA for publicly owned treatment works (POTWs) and reflect the performance of secondary wastewater treatment plants. These technology-based regulations apply to all municipal wastewater treatment plants and represent the minimum level of effluent quality attainable by secondary treatment, as reflected in terms of 5-day biochemical oxygen demand (BOD5) and total suspended solids (TSS) removal. The Babylon facility does not discharge into the Great South Bay. An extensive pipeline crosses the GSB and extends a considerable distance out into the Atlantic Ocean where the effluent discharged. The NYSDEC should be contacted for detailed information regarding the Babylon facility.

Enforcement

10. Comment: One commenter expressed concerns that older boats are not equipped with holding tanks and potentially contribute sewage to the bay while anchored overnight. There are house boats and barges where people live year round, that instead of pumping out and trucking away, they may be pumping it directly into bayside canals.

EPA Response: Boats with Type I or Type II Marine Sanitation Devices (MSDs) but without holding tanks are prohibited from using these MSDs in a NDZ. Compliance in an NDZ requires that at the time of boarding by a bona-fide law enforcement officer the vessel is incapable of discharging. One does not have to be caught in the act of discharging to be in violation of the law.

11. Comment: One commenter suggested a potential concern was that there was insufficient state or local resources for enforcement of a NDZ and possible resistance to the NDZ designation by local government and boat owners due to lack of understanding of the benefits. In addition, the commenter asked if funds are available for additional staffing.

EPA Response: According to the SSER Comprehensive Management Plan, published in 2001, to reduce impairments and to improve water quality, Federal, State, and local governments are undertaking a heavily funded and comprehensive program to reduce or eliminate all point and nonpoint sources of pollution and to forestall or reverse a pattern of water quality impairments throughout the region. The Management Plan lays out a strategy for enforcement, cooperation, funding and staffing among the federal, state, local and non-governmental organizations (NGOs).

12. Comment: One commenter suggested that each individual boat should be declared a point source and required to get a permit. Another commenter suggested that all boats with bathrooms should be required to have boat inspection similar to car inspections that would require boats to have the opening under the boat sealed before passing inspection. They also commented that mariners that install toilets that discharge into the waterways should be fined as well.

EPA Response: The Clean Water Act does not authorize EPA to require NPDES permits from vessels beyond what is currently regulated by the vacatur of the vessel exclusion (i.e., which resulted in EPA developing the “Vessel General Permit”). The Vessel General Permit (VGP) regulates discharges incidental to the normal operation of vessels operating in a capacity as a means of transportation. Recreational vessels as defined in section 502(25) of the Clean Water Act are not subject to this permit. In addition, with the exception of ballast water discharges, non-recreational vessels less than 79 feet (24.08 meters) in length, and all commercial fishing vessels, regardless of length, are not subject to this permit. Currently in the SSER there are commercial transportation vessels which are required to obtain and comply with the VGP permit. Recreational boats in the SSER are not required to have NPDES permit coverage at this time. With regard to the boat inspection, New York State enforcement of NDZs are captured under the New York State Navigation Law. Under Article 3, Section 33(e), paragraph 4 “any vessel being operated upon waters of the state that have been designated as a vessel waste NDZ may be boarded and inspected by the department or health department or any lawfully designated agents or inspectors thereof * * *.” All certified peace officers are agents of the state. This means a bona-fide law enforcement officer (State, County, Village police, including bay constables, Harbor Masters, etc.) can enforce the law. Therefore, EPA believes that the enforcement of the NDZ is sufficient and therefore, no need to add requirements such as a permit or inspection for boaters.

Public Education

13. Comment: Several commenters suggested public education to promote awareness and cooperation of people polluting waters. One commenter suggested that it is important to engage boaters in conversations about the importance of properly disposing of sewage from their boats and the benefits of a NDZ. As boating continues to increase in popularity, one commenter suggested a strategy to provide voluntary environmental programs and education to support a NDZ and other marine pollution controls.

EPA Response: As part of instituting a NDZ, Peconic Baykeeper has published and is distributing a Clean Boating Guide throughout the estuary to educate the boaters on clean water practices and to inform them of the location of pumpout facilities. Additional educational efforts are expected from the South Shore Estuary Reserve Program Office.

Outreach

14. Comment: One commenter inquired as to what kind of performance measure on outreach efforts there was for the NDZ designations.

EPA Response: As a result of this designation approval, improvements in water quality may be demonstrated through routine ambient sampling. Since there are several ongoing programs to improve the water quality in the estuary, it is difficult to attribute these improvements to a specific program. Currently, EPA is undertaking a national study to evaluate the efficacy of the NDZ designations and will publish the results when they are available.

15. Comment: One commenter asked if EPA would be able to post an online map of NDZs on the EPA Region 2 Web page.

EPA Response: EPA Region 2 has established a regional Web page that can be viewed at the following link: EPA R2 Web page at: http://www.epa.gov/region02/water/ndz/index.html

The EPA national NDZ web page is located at: http://www.epa.gov/owow/oceans/regulatory/vessel_sewage/vs_nodischarge_map.htm.

SUPPLEMENTARY INFORMATION: Notice is hereby given that a petition has been received from the State of New York requesting a determination by the Regional Administrator, U.S. Environmental Protection Agency, pursuant to section 312(f)(3) of Public Law 92-500 as amended by Public Law 95-217 and Public Law 100-4, that adequate facilities for the safe and sanitary removal and treatment of sewage from all vessels are reasonably available for South Shore Estuary Reserve (SSER) and its harbors, bays and creeks within the following boundaries:

East Rockaway Inlet, approach to Reynolds Channel, flashing green buoy (N “9”)

N 40°-35.5′

W 73°-44.9′

Jones Inlet, Jones Inlet red buoy (N “8”)

N 40°-35.2′

W 73°-34.3′

Fire Island Inlet, Fire Island Inlet flashing red buoy (N “10”)

N 40°-37.5′

W 73°-17.9′

Moriches Inlet, flashing red tower on east jetty terminus

N 40°-45.8′

W 72°-45.3′

Shinnecock Inlet, flashing green tower on west jetty terminus

N 40°-50.2′

W 72°-28.7′

The SSER encompasses 110,720 acres of open water and intertidal area. The waterbodies included in the SSER are Shinnecock Bay (East and West), Quantuck Bay, Moriches Bay (East and West), Bellport Bay, Patchogue Bay, Nicoll Bay, Great South Bay (West, East and Great Cove), South Oyster Bay, East Bay Complex, Middle Bay Complex and Western South Shore Bay. New York has provided documentation indicating the SSER vessel population and the number of pumpouts for each embayment. Shinnecock Bay—East is serviced by 3 pumpouts and has a vessel population of 864 (288 vessels per pumpout). Shinnecock Bay—West is serviced by 1 pumpout and has a vessel population of 1841 (1841 vessels per pumpout). Quantuck Bay is serviced by 1 pumpout and has a vessel population of 363 (363 vessels per pumpout). Moriches Bay—East is serviced by 2 pumpouts and has a vessel population of 951 (476 vessels per pumpout). Moriches Bay—West is serviced by 5 pumpouts and has a vessel population of 1829 (366 vessels per pumpout). Bellport Bay is serviced by 2 pumpouts and has a vessel population of 336 (168 vessels per pumpout). Patchogue Bay is serviced by 11 pumpouts and has a vessel population of 2814 (256 vessels per pumpout). Nicoll Bay is serviced by 6 pumpouts and has a vessel population of 1765 (294 vessels per pumpout). Great South Bay—East and Great Cove is serviced by 7 pumpouts and has a vessel population of 1810 (259 vessels per pumpout). Great South Bay—West is serviced by 12 pumpouts and has a vessel population of 5066 (422 vessels per pumpout). South Oyster Bay is serviced by 5 pumpouts and has a vessel population of 1453 (291 vessels per pumpout). East Bay Complex is serviced by 4 pumpouts and has a vessel population of 747 (187 vessels per pumpout). Middle Bay Complex is serviced by 8 pumpouts and has a vessel population of 3392 (424 vessels per pumpout). Western South Shore Bay is serviced by 2 pumpouts and has a vessel population of 705 (352 vessels per pumpout).

The criterion established by the Clean Vessel Act regarding the adequate number of pumpouts per vessel population is 1 pumpout per 300-600 vessels. All areas of the SSER meet or exceed this criterion with the exception of Shinnecock Bay—West, which has one pumpout per 1841 vessels. Factoring in the adjacent waters, Shinnecock Bay—East and Quantuck Bay, 5 pumpouts service a vessel population of 2492. The ratio is one pumpout per 498 vessels, which meets the criterion.

The facilities located in the Shinnecock Bay—East are as follow:

Name: Sherry and Joe Corrs Best Boat Works.

Lat/Long: N40.97938 W72.43858.

Phone: 631-283-7359.

VHF Channel: N/A.

Dates of Operation: Spring-Summer.

Hours of Operation: 9 a.m.-5 p.m.

Fee: $5.

Vessel Limitations Length/Draught: None/4.5 feet.

Method of Sewage Disposal: Private contractor.

Name: Shinnecock Canal County Marina.

Lat/Long: N40.884444 W72.501944.

Phone: 631-852-8291 or 631-852-8899.

VHF Channel: N/A.

Dates of Operation: April 1-October 31.

Hours of Operation: 24 hours.

Fee: Free.

Vessel Limitation Length/Draught: 60 feet/8 feet.

Method of Sewage Disposal: Private contractor.

Name: Southampton Town Pumpout Boat.

Lat/Long: N/A.

Phone: 631-283-6000.

VHF Channel: 73.

Dates of Operation: April-November.

Hours of Operation: 8 a.m.-5 p.m.

Fee: Free.

Vessel Limitation Length/Draught: N/A.

Method of Sewage Disposal: Pumps out at Shinnecock Canal County Marina.

The facility located in Quantuck Bay and Shinnecock Bay—West is as follows:

Name: Southampton Town Pumpout Boat.

Lat/Long: N/A.

Phone: 631-283-6000.

VHF Channel: 73.

Dates of Operation: April-November.

Hours of Operation: 8 a.m.-5 p.m.

Fee: Free.

Vessel Limitation Length/Draught: N/A.

Method of Sewage Disposal: Pumps out at Shinnecock Canal County Marina.

The facility located in Moriches Bay—East is as follows:

Name: Remsenburg Marina.

Lat/Long: N40.8157 W72.72324.

Phone: 631-325-1677.

VHF Channel: N/A.

Dates of Operation: April 1-November 1, 7 days a week.

Hours of Operation: 8 a.m.-5 p.m.

Fee: $5.

Vessel Limitation Length/Draught: 45 feet/4 feet.

Method of Sewage Disposal: Waste emptied and disposed of by private contractor.

The facilities located in Moriches Bay—West are as follow:

Name: Windswept Marina.

Lat/Long: N40.791389 W72.753333.

Phone: 631-878-2100.

VHF Channel: N/A.

Dates of Operation: April 1-November 1.

Hours of Operation: 8 a.m.-5 p.m.

Fee: Free.

Vessel Limitation Length/Draught: 45 feet/6 feet.

Method of Sewage Disposal: Waste emptied and disposed of private contractor.

Name: Senix Marina.

Lat/Long: N40.795 W72.805833.

Phone: 631-874-2092.

VHF Channel: N/A.

Dates of Operation: April 1-November 1.

Hours of Operation: 8 a.m.-5 p.m.

Fee: $5.

Vessel Limitation Length/Draught: 45 feet/4 feet.

Method of Sewage Disposal: Waste emptied and disposed of private contractor.

Name: Waterways Marina.

Lat/Long: N40.78756 W72.81813.

Phone: 631-874-8066.

VHF Channel: N/A.

Dates of Operation: March 15-November 15.

Hours of Operation: 8 a.m.-4 p.m.

Fee: Free.

Vessel Limitation Length/Draught: 60 feet/4 feet.

Method of Sewage Disposal: Pumped into sewage treatment plant.

Name: Brookhaven Town Marina.

Lat/Long: N40.80199 W72.83084.

Phone: 631-395-3993.

VHF Channel: N/A.

Dates of Operation: April 1-November 1.

Hours of Operation: 8 a.m.-5 p.m.

Fee: $5.

Vessel Limitation Length/Draught: 45 feet/4 feet.

Method of Sewage Disposal: Waste emptied weekly and disposed of private contractor.

Name: Brookhaven Town Pumpout Boat.

Lat/Long: N/A.

Phone: 631-878-2100.

VHF Channel: 73.

Dates of Operation: April 1-November 1.

Hours of Operation: 8 a.m.-5 p.m.

Fee: $5.

Vessel Limitation Length/Draught: N/A.

Method of Sewage Disposal: Waste emptied and disposed of private contractor.

The facility located in Bellport Bay is as follows:

Name: Beaver DamBoat Marina.

Lat/Long: N40.77222 W72.91778.

Phone: 631-286-7186.

VHF Channel: 73.

Dates of Operation: April 1-November 1.

Hours of Operation: 8 a.m.-5 p.m.

Fee: $5.

Vessel Limitation Length/Draught: 45 feet/4 feet.

Method of Sewage Disposal: Waste emptied and disposed of private contractor.

The facilities located in Patchogue Bay are as follow:

Name: Patchogue Shores Marina.

Lat/Long: N40.75 W72.975278.

Phone: 631-475-0790.

VHF Channel: 73.

Dates of Operation: April 1-November 1.

Hours of Operation: 8 a.m.-5 p.m.

Fee: $5.

Vessel Limitation Length/Draught: 45 feet/4 feet.

Method of Sewage Disposal: Waste emptied and disposed of by contractor.

Name: Brookhaven Town Pumpout Boats (2), these boats also service vessels in Bellport Bay and Moriches Bay—West.

Lat/Long: N/A.

Phone: N/A.

VHF Channel: 73.

Dates of Operation: April 1-November 1.

Hours of Operation: 8 a.m.-5 p.m.

Fee: $5.

Vessel Limitation Length/Draught: N/A.

Method of Sewage Disposal: Waste emptied and disposed of by contractor.

Name: Dockside Mobile Pumpout—pumpout boat and mobile truck.

Lat/Long: N/A.

Phone: 631-447-1189.

VHF Channel: N/A.

Dates of Operation: All year.

Hours of Operation: 8 a.m.-5 p.m.

Fee: Varies based on location.

Vessel Limitation Length/Draught: N/A.

Method of Sewage Disposal: Waste emptied and disposed of by contractor.

Name: Morgan's Swan Marina.

Lat/Long: N40.7481 W72.99726.

Phone: 631-785-3524.

VHF Channel: 73.

Dates of Operation: Memorial Day-September, Tuesday-Sunday.

Hours of Operation: 10 a.m.-4 p.m.

Fee: $5.

Vessel Limitation Length/Draught: 34 feet/5 feet.

Method of Sewage Disposal: Waste emptied and disposed of by contractor.

Name: Watch Hill.

Lat/Long: N40.69147 W72.98933.

Phone: 631-597-3109.

VHF Channel: 9.

Dates of Operation: April 1-November 1.

Hours of Operation: 8 a.m.-5 p.m.

Fee: Free.

Vessel Limitation Length/Draught: 45 feet/4.5 feet.

Method of Sewage Disposal: Waste emptied and disposed of by contractor.

Name: Davis Park Marina.

Lat/Long: N40.68581 W73.00312.

Phone: 631-597-6830.

VHF Channel: 9.

Dates of Operation: Everyday from the third week of May through the end of October.

Hours of Operation: 8 a.m.-9 p.m.

Fee: Free.

Vessel Limitation Length/Draught: 40 feet/3.5 feet.

Method of Sewage Disposal: Waste emptied and disposed of by contractor.

Name: Sandspit Marina.

Lat/Long: N40.74715 W73.01513.

Phone: 631-475-1592.

VHF Channel: 9.

Dates of Operation: May-November.

Hours of Operation: 24 hours a day.

Fee: Free.

Vessel Limitation Length/Draught: 35+ feet/2 feet.

Method of Sewage Disposal: Waste emptied and disposed of by contractor.

Name: Island View Marina.

Lat/Long: N40.75035 W73.01805.

Phone: 631-447-1234.

VHF Channel: N/A.

Dates of Operation: April 1-December 15.

Hours of Operation: Monday-Thursday 8 a.m.-6 p.m., Friday-Sunday 8 a.m.-8 p.m.

Fee: $10.

Vessel Limitation Length/Draught: 65 feet/5 feet.

Method of Sewage Disposal: Waste emptied and disposed of by contractor.

Name: Leeward Cove Marina.

Lat/Long: N40.75619 W73.02737.

Phone: 631-363-6045.

VHF Channel: N/A.

Dates of Operation: May-November.

Hours of Operation: 24 hours.

Fee: Free.

Vessel Limitation Length/Draught: 32 feet/6 feet.

Method of Sewage Disposal: Waste emptied and disposed of by contractor.

Name: Blue Point Marina.

Lat/Long: N40.74679 W73.02737.

Phone: 631-363-6045.

VHF Channel: N/A.

Dates of Operation: May-November.

Hours of Operation: 24 hours.

Fee: Free.

Vessel Limitation Length/Draught: 32 feet/6 feet.

Method of Sewage Disposal: Waste emptied and disposed of by contractor.

Name: Browns River Marina.

Lat/Long: N40.7250 W73.0706.

Phone: 631-589-5550.

VHF Channel:

Dates of Operation: Year round.

Hours of Operation: 24 hours.

Fee: Free.

Vessel Limitation Length/Draught: 60 feet/6 feet.

Method of Sewage Disposal: Waste emptied and disposed of by contractor.

Name: East West Sayville Boat Basin.

Lat/Long: N40.72117 W73.09324.

Phone: 631-589-4141.

VHF Channel: N/A.

Dates of Operation: All Year (self serve March 1-December 1).

Hours of Operation: 24 hours.

Fee: $5 (voluntary).

The facilities located in Nicoll Bay are as follow:

Name: West Sayville Boat Basin.

Lat/Long: N40.72117 W73.09324.

Phone: 631-589-4141.

VHF Channel: N/A.

Dates of Operation: All Year (self serve March 1-December 1).

Hours of Operation: 24 hours.

Fee: $5 (voluntary).

Vessel Limitation Length/Draught: None/5 feet/.

Method of Sewage Disposal: Waste emptied and disposed of by contractor.

Name: Sailors Haven.

Lat/Long: N40.65714 W73.10440.

Phone: 631-597-6171.

VHF Channel: N/A.

Dates of Operation: May 15-October 15.

Hours of Operation: 24 hours.

Fee: Free.

Vessel Limitation Length/Draught: None/2.5 feet.

Method of Sewage Disposal: Waste emptied and disposed of by contractor.

Name: Timber Point East County Marina.

Lat/Long: N40.71273 W73.14414.

Phone: 631-854-0930.

VHF Channel: N/A.

Dates of Operation: June-October.

Hours of Operation: 7 a.m.-7 p.m.

Fee: Free.

Vessel Limitation Length/Draught: 40 feet/4.5 feet.

Method of Sewage Disposal: Waste emptied and disposed of by contractor.

Name: Heckster State Park.

Lat/Long: N40.70332 W73.14691.

Phone: 631-581-2100.

VHF Channel: N/A.

Dates of Operation: April 1-November 1.

Hours of Operation: 7 a.m.-Sunset.

Fee: Free with entrance fee to park.

Vessel Limitation Length/Draught: None/3 feet.

Method of Sewage Disposal: Waste emptied and disposed of by contractor.

The facilities located in Great South Bay—East and Great Cove are as follow:

Name: Atlantique Marina.

Lat/Long: N40.64340 W73.17353.

Phone: 631-583-8610.

VHF Channel: 9.

Dates of Operation: When Marina is open during boating season.

Hours of Operation: 9 a.m.-6:30 p.m.

Fee: Free.

Vessel Limitation Length/Draught: None/10 feet.

Method of Sewage Disposal: Waste emptied and disposed of by contractor.

Name: East Islip Marina.

Lat/Long: N40.70744 W73.18954.

Phone: 631-224-5413.

VHF Channel: N/A.

Dates of Operation: During Marina Season.

Hours of Operation: 8 a.m.-4 p.m.

Fee: Free.

Vessel Limitation Length/Draught: None/6 feet.

Method of Sewage Disposal: Waste emptied and disposed of by contractor.

Name: Islip Pumpout Boat.

Lat/Long: N/A.

Phone: N/A.

VHF Channel: 73.

Dates of Operation: April 1-November 1.

Hours of Operation: 7 a.m.-Sunset.

Fee: Free.

Vessel Limitation Length/Draught: None/10 feet.

Method of Sewage Disposal: Waste emptied and disposed of by contractor.

Name: Bay Shore Marina.

Lat/Long: N40.71276 W73.23727.

Phone: 631-224-5648.

VHF Channel: 73.

Dates of Operation: April 1-November 1.

Hours of Operation: 7 a.m.-Sunset.

Fee: Free.

Vessel Limitation Length/Draught: 30 feet/3 feet.

Method of Sewage Disposal: Waste emptied and disposed of by contractor.

Name: Captree State Park.

Lat/Long: N40.64208 W73.25290.

Phone: 631-321-3533.

VHF Channel: 73.

Dates of Operation: April 1-November 1.

Hours of Operation: 7 a.m.-Sunset.

Fee: Free.

Vessel Limitation Length/Draught: None/3 feet.

Method of Sewage Disposal: Waste emptied and disposed of by contractor.

Name: Robert Moses State Park.

Lat/Long: N40.62483 W73.26657.

Phone: 631-669-1000 or 631-669-0470.

VHF Channel: 73.

Dates of Operation: April 1-November 1.

Hours of Operation: 7 a.m.-sunset.

Fee: Free.

Vessel Limitation Length/Draught: None/3 feet.

Method of Sewage Disposal: Waste emptied and disposed of by contractor.

The facilities located in Great South Bay—West are as follow:

Name: Babylon Fishing Station.

Lat/Long: N40.686111 W73.31611.

Phone: 631-669-4503.

VHF Channel: 78.

Dates of Operation: April 1-December 1.

Hours of Operation: 8 a.m.-5 p.m.

Fee: $5.

Vessel Limitation Length/Draught: Unlimited/5 feet.

Method of Sewage Disposal: Waste pumped directly into the sewer system.

Name: Babylon Marine.

Lat/Long: N40.68646 W73.32479.

Phone: 631-587-0333.

VHF Channel: N/A.

Dates of Operation: Spring and Summer.

Hours of Operation: Monday-Saturday 8 a.m.-5 p.m., Sunday 9 a.m.-5 p.m.

Fee: Free with gas purchase, $10 without.

Vessel Limitation Length/Draught: None/4 feet.

Method of Sewage Disposal: Waste pumped directly into sewer system.

Name: Bergen Point Marina.

Lat/Long: N40.677222 W73.338056.

Phone: 631-957-7440.

VHF Channel: N/A.

Dates of Operation: May-November.

Hours of Operation: 24 hours/7 days.

Fee: Free.

Vessel Limitation Length/Draught: None/10 feet.

Method of Sewage Disposal: Bergen Point STP.

Name: Cedar Beach Marina.

Lat/Long: N40.635156 W73.34457.

Phone: 631-669-5949.

VHF Channel: N/A.

Dates of Operation: Weekends beginning 2nd weekend of May, full-time June 28-Columbus Day.

Hours of Operation: 24 hours a day.

Fee: Free.

Vessel Limitation Length/Draught: 45 feet/14 feet.

Method of Sewage Disposal: Settling pools onsite, truck pumpout if necessary.

Name: Surfside 3 Marina.

Lat/Long: N40.66984 W73.35807.

Phone: 631-957-5900.

VHF Channel: N/A.

Dates of Operation: All Year.

Hours of Operation: 8 a.m.-8 p.m.

Fee: Free with gas purchase, $10 without.

Vessel Limitation Length/Draught: 50 feet/4 feet.

Method of Sewage Disposal: Waste pumped directly into sewer system.

Name: Boatland.

Lat/Long: N40.675556 W73.358611.

Phone: 631-957-5550.

VHF Channel: N/A.

Dates of Operation: April 1-October 1.

Hours of Operation: Monday-Thursday 8 a.m.-5 p.m., Friday-Sunday 7 a.m.-7 p.m.

Fee: $5.

Vessel Limitation Length/Draught: 50 feet/5 feet.

Method of Sewage Disposal: Waste pumped directly into sewer system.

Name: The Anchorage.

Lat/Long: N40.67066 W73.35812.

Phone: 631-225-5656.

VHF Channel: N/A.

Dates of Operation: April-October.

Hours of Operation: 9 a.m.-7 p.m.

Fee: $10.

Vessel Limitation Length/Draught: 60 Feet/5 feet.

Method of Sewage Disposal: Waste emptied and disposed of by contractor.

Name: LaSala Boat Yard.

Lat/Long: N40.5931 W73.5403.

Phone: 516-623-5757.

VHF Channel: N/A.

Dates of Operation: Boating Season.

Hours of Operation: 8 a.m.-5 p.m.

Fee: Free.

Vessel Limitation Length/Draught: 40 feet/4 feet.

Method of Sewage Disposal: Waste pumped directly into sewer system.

Name: Tanner Park.

Lat/Long: N40.66023 W73.39365.

Phone: 631-789-4159.

VHF Channel: N/A.

Dates of Operation: Boating Season.

Hours of Operation: 24 hours a day.

Fee: Free.

Vessel Limitation Length/Draught: 60 feet/5 feet.

Method of Sewage Disposal: Waste emptied and disposed of by contractor.

Name: Gilgo Beach Marina.

Lat/Long: N40.61879 W73.39796.

Phone: 631-826-1255.

VHF Channel: N/A.

Dates of Operation: April 1-November 1.

Hours of Operation: Monday-Friday 8 a.m.-5 p.m., Saturday and Sunday 7 a.m.-7 p.m.

Fee: Free.

Vessel Limitation Length/Draught: 60 feet/4.5 feet.

Method of Sewage Disposal: Waste emptied and disposed of by contractor.

Name: Delmarine, Inc.

Lat/Long: N40.66333 W73.4225.

Phone: 631-598-2946.

VHF Channel: N/A.

Dates of Operation: Boating Season.

Hours of Operation: Monday-Friday 8 a.m.-5 p.m., Saturday 8 a.m.-12 p.m.

Fee: Available only to private slip users, Free.

Vessel Limitation Length/Draught: N/A.

Method of Sewage Disposal: Waste pumped directly into sewer system.

The facilities located in South Oyster Bay are as follow:

Name: TOBAY Heading Marina.

Lat/Long: N40.615 W73.426667.

Phone: 516-679-3900.

VHF Channel: 16.

Dates of Operation: Memorial Day-October.

Hours of Operation: 9 a.m.-7 p.m.

Fee: Free.

Vessel Limitation Length/Draught: 45 feet/4 feet.

Method of Sewage Disposal: 2 cesspools and leaching field, pump truck if needed.

Name: Town of Oyster Bay Pumpout Boat.

Lat/Long: N/A.

Phone: 516-679-3900.

VHF Channel: 9.

Dates of Operation: Memorial Day-October.

Hours of Operation: 9 a.m.-7 p.m.

Fee: Free.

Vessel Limitation Length/Draught: N/A.

Method of Sewage Disposal: Empties at TOBAY Marina.

Name: Treasure Island Marine Basin Corp.

Lat/Long: N40.649444 W73.498056.

Phone: 516-221-7156.

VHF Channel: N/A.

Dates of Operation: April-November.

Hours of Operation: Weekdays 8 a.m.-5 p.m., Weekends 9 a.m.-4 p.m.

Fee: Free for customers, $20 otherwise.

Vessel Limitation Length/Draught: 35 feet/5 feet.

Method of Sewage Disposal: Waste pumped directly into sewer sytem.

Name: Precision Marina.

Lat/Long: N40.647222 W73.498611.

Phone: 516-785-3013.

VHF Channel: N/A.

Dates of Operation: April-November.

Hours of Operation: Summer 8 a.m.-6 p.m., Winter 8 a.m.-4 p.m.

Fee: $5.

Vessel Limitation Length/Draught: 35/5 feet.

Method of Sewage Disposal: Waste epumped directly into sewer system.

The facilities located in East Bay Complex are as follow:

Name: Wantagh County Park.

Lat/Long: N40.645556 W73.514722.

Phone: 516-571-7460.

VHF Channel: N/A.

Dates of Operation: April-November.

Hours of Operation: 24 hours a day.

Fee: Free.

Vessel Limitation Length/Draught: 40 feet/5 feet.

Method of Sewage Disposal: Waste pumped directly into sewer system.

Name: Blue Water Yacht Club.

Lat/Long: N40.5931 W73.5403.

Phone: 516-625-5757.

VHF Channel: N/A.

Dates of Operation: April-November.

Hours of Operation: 24 hours a day.

Fee: Free.

Vessel Limitation Length/Draught: 40 feet/5 feet.

Method of Sewage Disposal: Water pumped directly into sewer system.

This facility services vessels in Western South Shore Bay, Middle Bay, and East Bay:

Name: Town of Hempstead Pumpout Boat.

Lat/Long: N/A.

Phone: 516-431-9200.

VHF Channel: 73.

Dates of Operation: Mid-May-October.

Hours of Operation: 9 a.m.-5 p.m.

Fee: Free.

Vessel Limitation Length/Draught: N/A.

Method of Sewage Disposal: Waste pumped into sewage treatment plant.

The facilities located in Middle Bay Complex are as follow:

Name: West End Boat Basin.

Lat/Long: N40.59056 W73.5556.

Phone: 516-785-1600.

VHF Channel: N/A.

Dates of Operation: April 1-October 15.

Hours of Operation: 9 a.m.-4:30 p.m.

Fee: Free.

Vessel Limitation Length/Draught: 50 feet/7 feet.

Method of Sewage Disposal: Waste emptied and disposed of by contractor.

Name: Al Grover's High and Dry.

Lat/Long: N40.64417 W73.57333.

Phone: 516-546-8880.

VHF Channel: N/A.

Dates of Operation: April-October.

Hours of Operation: 8 a.m.-5 p.m.

Fee: $40.

Vessel Limitation Length/Draught: 35 feet/7 feet.

Method of Sewage Disposal: Waste emptied directly into sewer system.

Name: Guy Lombardo Marina.

Lat/Long: N40.629444 W73.58.

Phone: 516-378-3417.

VHF Channel: N/A.

Dates of Operation: April-November.

Hours of Operation: 24 hours a day.

Fee: Free.

Vessel Limitation Length/Draught: None/5 feet.

Method of Sewage Disposal: Waste emptied and disposed of by contractor

Name: Town of Hempstead East Marina.

Lat/Long: N40.59361 W73.584722.

Phone: 516-897-4128.

VHF Channel: N/A.

Dates of Operation: April-November.

Hours of Operation: 24 hours a day.

Fee: Free.

Vessel Limitation Length/Draught: None/5 feet.

Method of Sewage Disposal: Waste emptied and disposed of by contractor.

Name: Empire Point Marina.

Lat/Long: N40.61556 W73.64889.

Phone: 516-889-1067.

VHF Channel: N/A.

Dates of Operation: Year round.

Hours of Operation: Monday-Thursday 9 a.m.-5 p.m., Friday-Sunday 6 a.m.-6 p.m.

Fee: $5.

Vessel Limitation Length/Draught: 100 feet/30 feet.

Method of Sewage Disposal: Waste emptied and disposed of by contractor.

The facility located in Western South Shore Bay is as follows:

Name: Crow's Nest Marina.

Lat/Long: N40.63597 W73.6577.

Phone: 516-766-2020.

VHF Channel: N/A.

Dates of Operation: May-October, Monday-Friday.

Hours of Operation: 9 a.m.-4 p.m.

Fee: Free for marina patrons, $25 for visitors.

Vessel Limitation Length/Draught: 35 feet/4 feet.

Method of Sewage Disposal: Waste emptied and disposed of by contractor.

The EPA hereby makes a final affirmative determination that adequate facilities for the safe and sanitary removal and treatment of sewage from all vessels are reasonably available for the South Shore Estuary Reserve in the Counties of Nassau and Suffolk, New York.

Dated: October 20, 2009.
George Pavlou,
Acting Regional Administrator, Region 2.

[FR Doc. E9-27567 Filed 11-16-09; 8:45 am]

BILLING CODE 6560-50-P